DEPARTMENT OF DEFENSE

Office of the Secretary

[Docket ID DoD-2013-OS-0049]

Privacy Act of 1974; System of Records

AGENCY: Office of the Secretary, DoD.

ACTION: Notice to alter a System of Records.

SUMMARY: The Defense Logistics Agency proposes to alter a system of records in its inventory of record systems subject to the Privacy Act of 1974 (5 U.S.C. 552a), as amended.

DATES: This proposed action will be effective on April 22, 2013 unless comments are received which result in a contrary determination. Comments will be accepted on or before April 22, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jody Sinkler, DLA/FOIA/Privacy Act Office, Headquarters, Defense Logistics Agency, ATTN: DGA, 8725 John J. Kingman Road, Suite 1644, Fort Belvoir, VA 22060-6221, or by phone at (703) 767-5045.

SUPPLEMENTARY INFORMATION: The Office of the Secretary of Defense notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on March 5, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: March 18, 2013.
Aaron Siegel,
Alternate OSD Federal Register Liaison Officer, Department of Defense.

S375.80

System name:

Alternate Worksite Records (April 15, 2010; 75 FR 19624).

Changes:

* * * * *

System name:

Delete entry and replace with “DLA Telework Program Records”.

System location:

Delete entry and replace with “Office of the Director, Human Resources, Headquarters, Defense Logistics Agency, 8725 John J. Kingman Road, Suite 6231, Fort Belvoir, VA 22060-6221, and DLA Primary Level Field Activities. Official mailing addresses are published as an appendix to DLA's compilation of systems of records notices.”

Categories of individuals covered by the system:

Change “DLA Alternate Worksite” to “DLA Telework”.

Categories of records in the system:

Delete entry and replace with “Records include individual's name; position title, grade, and job series; duty station address and telephone number; approved telework address, telephone number(s), Telework request forms (Telework Request and Approval Form, Telework Agreement, Self-Certification Home Safety Checklist, and Supervisor-Employee Checklist); approvals/disapprovals; description of government owned equipment and software provided to the Teleworker.

Authority for maintenance of the system:

Add to entry “DLA Instruction 7212, Defense Logistics Agency Telework Program.”

Purpose(s):

Within entry replace “alternate worksite” with “telework”.

Routine uses of records maintained in the system, including categories of users and the purposes of such uses:

Second paragraph has been rewritten “To the Department of Labor when an employee is injured while teleworking, i.e., telework address and safety checklists may be disclosed.”

Replace fourth paragraph with “The DoD Blanket Routine Uses may apply to this system of records”.

* * * * *

Storage:

Delete entry and replace with “Records are maintained on paper.”

* * * * *

Safeguards:

Delete entry and replace with “Records are maintained in a controlled area with physical entry restricted by the use of badges, card swipe, or sign-in protocols. Paper records are maintained in areas accessible only to DLA personnel who must use the records to perform their duties. Records are secured in locked or guarded buildings, locked offices, or locked cabinets during non-duty hours.”

Retention and disposal:

Delete entry and replace with “Records are destroyed 1 year after employee's participation in the program ends. Unapproved requests are destroyed 1 year after the request is denied.”

System manager(s) and address:

Delete entry and replace with “Director, Human Resources, Headquarters, Defense Logistics Agency, 8725 John J. Kingman Road, Suite 6231, Fort Belvoir, VA 22060-6221.”

Notification procedure:

Delete entry and replace with “Individuals seeking to determine whether information about themselves is contained in this system should address written inquiries to the DLA FOIA/Privacy Act Office, Headquarters, Defense Logistics Agency, ATTN: DGA, 8725 John J. Kingman Road, Suite 1644, Fort Belvoir, VA 22060-6221.

Inquiry should contain the record subject's full name and the DLA facility/activity where employee requested to participate in the DLA Telework Program.”

Record access procedures:

Delete entry and replace with “Individuals seeking access to information about themselves contained in this system should address written inquiries to the DLA FOIA/Privacy Act Office, Headquarters, Defense Logistics Agency, ATTN: DGA, 8725 John J. Kingman Road, Suite 1644, Fort Belvoir, VA 22060-6221.

Inquiry should contain the record subject's full name and the DLA facility/activity where employee requested to participate in the DLA Telework Program.”

Contesting record procedures:

Delete entry and replace with “The DLA rules for accessing records, for contesting contents, and appealing initial agency determinations are contained in 32 CFR part 323, or may be obtained from the DLA FOIA/Privacy Act Office, Headquarters, Defense Logistics Agency, ATTN: DGA, 8725 John J. Kingman Road, Suite 1644, Fort Belvoir, VA 22060-6221.”

Record source categories:

Delete entry and replace with “Data is supplied by the record subject, supervisors, and information technology offices.”

* * * * *

[FR Doc. 2013-06490 Filed 3-20-13; 8:45 am]

BILLING CODE 5001-06-P